DEPARTMENT OF COMMERCE

Foreign-Trade Zones Board

[B-9-2018]

Foreign-Trade Zone 31—Granite City, Illinois; Application for Reorganization and Expansion Under Alternative Site Framework

An application has been submitted to the Foreign-Trade Zones (FTZ) Board by America's Central Port District, grantee of FTZ 31, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on February 5, 2018.

FTZ 31 was approved by the FTZ Board on September 6, 1977 (Board Order 122, 42 FR 46568; September 16, 1977) and expanded on January 16, 1985 (Board Order 289, 50 FR 3371; January 24, 1985) and October 3, 2003 (Board Order 1304, (68 FR 59162; October 14, 2003).

The current zone includes the following sites: Site 1 (47 acres)—Tri-City Regional Port Complex, 2801 Rock Road, Granite City; Site 3 (4.79 acres)—Fox Industries, 1100 Niedringhaus Avenue, Granite City; Site 4 (2.82 acres)—Port District Industrial Park and Transportation Center, 1000 and 2000 Access Road, Madison; Site 5 (2,254 acres)—Gateway Commerce Center, Intersection of 270 and I-255, Edwardsville; Site 6 (458 acres)—River's Edge Industrial Park, 1635 West First Street, Granite City; and, Site 7 (3,851 acres)—MidAmerica Airport, Intersection of I-64 and Route 4, Mascoutah.

The grantee's proposed service area under the ASF would be Bond, Calhoun, Clinton, Greene, Jersey, Macoupin, Madison, Monroe, Montgomery, Randolph, St. Clair, and Washington Counties, Illinois, as described in the application. If approved, the grantee would be able to serve sites throughout the service area based on companies' needs for FTZ designation. The application indicates that the proposed service area is within and adjacent to the St. Louis Customs and Border Protection port of entry.

The applicant is requesting authority to reorganize its zone to include existing Sites 1, 5 and 7 as “magnet” sites. The applicant requests that existing Site 1 be expanded to include the full port area and that existing Sites 4 and 6 be included as part of the expanded Site 1. As requested, the expanded Site 1 would total 1,530.6 acres. The ASF allows for the possible exemption of one magnet site from the “sunset” time limits that generally apply to sites under the ASF, and the applicant proposes that Site 1 be so exempted. The applicant is also requesting the removal of Site 3 as well as Subzones 31A and 31C. The application would have no impact on Subzone 31B.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary at the address below. The closing period for their receipt is April 10, 2018. Rebuttal comments in response to material submitted during the foregoing period may be submitted during the subsequent 15-day period to April 25, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz. For further information, contact Elizabeth Whiteman at Elizabeth.Whiteman@trade.gov or (202) 482-0473.

Dated: February 5, 2018.
Andrew McGilvray,
Executive Secretary.

[FR Doc. 2018-02631 Filed 2-8-18; 8:45 am]

BILLING CODE 3510-DS-P